DEPARTMENT OF DEFENSE

Office of the Secretary

[Docket ID DoD-2014-OS-0111]

Proposed Collection; Comment Request

AGENCY: Defense Logistics Agency, DoD.

ACTION: Notice.

SUMMARY: In compliance with Section 3506(c)(2)(A) of the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 15, 2014.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Logistics Agency, ATTN: DLA Intelligence, 8725 John J. Kingman Road, Fort Belvoir, VA 22060-6221.

SUPPLEMENTARY INFORMATION: Title; Associated Form; and OMB Number: DLA Personnel Security (PERSEC); Forms include DL1474, Defense Logistics Agency Pre-appointment Security Check; DH1728, Request for HQC Contractor Badge and/or Information Technology (IT) Access; DL1270, Determination of Need for Access/Position Sensitivity Change; DL1834, DLA Security Briefing/Debriefing Certificate; DL1875, Request for Waiver of Pre-appointment Investigative Requirements (PIR) (Noncritical Sensitive Positions); DL1875B, Request for Waiver of Pre-appointment Investigative Requirements (PIR) (Critical Sensitive Positions); and DL1875C, Request for Waiver of Pre-appointment Investigative Requirements (PIR) (Contractor Information Technology (IT) Positions); OMB Control Number: 0704-XXXX.

Needs and Uses: PERSEC is an administrative system used by DLA Personnel Security Specialists to determine whether an individual is suitable, eligible, or qualified to occupy a sensitive position and/or have access to classified information. Authority to collect this information is in accordance with 5 U.S.C. 301, Departmental Regulations; 10 U.S.C. 136, Under Secretary of Defense for Personnel and Readiness; E.O. 10450, Security Requirements for Government Employment; E.O. 12958, Classified National Security Information; DoD Regulation 5200.2, DoD Personnel Security Program; and E.O. 9397 (SSN). Personal Information Collection are: Name, Address, family members, Dates of Birth, Place of Birth, Mother's Maiden name, Citizenship status, and SSN. The forms used to collect the data contain Privacy Act Statements as required by 5 U.S.C. 522a(e)(3). Only DLA Personnel Security Specialists and Management with the “need to know” can access an individual's PII information.

Affected Public: Individuals suitable, eligible, or qualified to occupy a sensitive position and/or have access to classified information. This includes DoD civilians, military personnel, and contractors that have been selected to work for the Defense Logistics Agency in a sensitive position.

Annual Burden Hours: 2,500.

Number of Respondents: 10,000.

Responses per Respondent: 1.

Average Burden per Response: 15 minutes.

Frequency: On occasion.

PERSEC is a Web application used by DLA personnel security specialists to maintain security clearance information on DLA civilian employees, military personnel, and contractors assigned to DLA. It is primarily a case management system used to supplement the Joint Personnel Adjudications System (JPAS) and to access information through database feeds. While JPAS is used to determine clearance eligibility, PERSEC is used to track security investigation status and generate summary reports.

Dated: July 14, 2014.
Aaron Siegel,
Alternate OSD Federal Register Liaison Officer, Department of Defense.

[FR Doc. 2014-16822 Filed 7-16-14; 8:45 am]

BILLING CODE 5001-06-P